DEPARTMENT OF TRANSPORTATION

Federal Railroad Administration

Notice of Final Agency Actions on Proposed Railroad Project in California on Behalf of the California High Speed Rail Authority

AGENCY: Federal Railroad Administration (FRA), U.S. Department of Transportation (DOT).

ACTION: Notice.

SUMMARY: FRA, on behalf of the California High-Speed Rail Authority (Authority), is issuing this notice to announce actions taken by the Authority that are final. By this notice, FRA is advising the public of the time limit to file a claim seeking judicial review of the actions. The actions relate to the California High-Speed Rail San Jose to Merced Project Section (Project). These actions grant approvals for project implementation pursuant to the National Environmental Policy Act (NEPA) and other laws, regulations, and executive orders.

DATES: A claim seeking judicial review of the agency actions on the Project will be barred unless the claim is filed on or before June 21, 2024. If Federal law later authorizes a time period of less than 2 years for filing such claim, then that shorter time period applies.

FOR FURTHER INFORMATION CONTACT:

For the Authority: Scott Rothenberg, NEPA Assignment Manager, Environmental Services, California High-Speed Rail Authority, telephone: (916) 403-6936; email: Scott.Rothenberg@hsr.ca.gov.

For FRA: Marlys Osterhues, Division Chief, Environment and Systems Planning, Federal Railroad Administration, telephone: (202) 493-0413; email: Marlys.Osterhues@dot.gov.

SUPPLEMENTARY INFORMATION: Effective July 23, 2019, FRA assigned, and the State of California acting through the Authority assumed, environmental responsibilities for the California High-Speed Rail (HSR) System pursuant to 23 U.S.C. 327. Notice is given that the Authority has taken final agency actions subject to 23 U.S.C. 139(l)(1); 49 U.S.C. 24201(a)(4) by issuing approvals for the Project. The purpose of the California HSR System ¹ is to provide a reliable, high-speed, electric-powered train system that links the major metropolitan areas of California, delivering predictable and consistent travel times. A further objective is to provide an interface with commercial airports, mass transit, and the highway network, and to relieve capacity constraints of the existing transportation system as increases in intercity travel demand in California occur, in a manner sensitive to and protective of California's unique natural resources. The Authority has selected Alternative 4, with the San Jose Diridon Station, a station in downtown Gilroy, the South Gilroy Maintenance-of-Way Facility and maintenance of way siding (MOWS) west of Turner Island Road in the Central Valley, as identified in the Final Environmental Impact Statement (Final EIS) and Record of Decision, for the San Jose to Merced Project because the Selected Alternative (1) best satisfies the Purpose, Need, and Objectives for the Project and (2) minimizes impacts on the natural and human environment by utilizing an existing transportation corridor where practicable and incorporating mitigation measures where practicable. The actions by the Authority, and the laws under which such actions were taken, are described in the Project's Final EIS and Record of Decision (ROD). The ROD was executed on June 1, 2022. The ROD, Final EIS, and other documents will be available online in PDF at the Authority's website (www.hsr.ca.gov) and via electronic media by calling (916) 324-1541.

¹ The California HSR System will be implemented in two phases. Phase 1 will connect San Francisco to Los Angeles and Anaheim via the Pacheco Pass and the southern Central Valley. Phase 2 will extend the HSR system from the Central Valley (starting at the Merced Station) to the state's capital in Sacramento and from Los Angeles to San Diego.

This notice applies to the ROD, Final EIS, and all other Federal agency decisions with respect to the Project as of the issuance date of this notice and all laws under which such actions were taken, including but not limited to:

1. NEPA;

2. Council on Environmental Quality regulations (1978); ²

² The Council on Environmental Quality (CEQ) issued new regulations on July 14, 2020, effective September 14, 2020, updating the NEPA implementing procedures at 40 CFR 1500 through 1508. However, this project initiated NEPA before the effective date and relies on the CEQ regulations as they existed prior to September 14, 2020. All subsequent citations to the CEQ regulations in the ROD and Final EIS refer to the 1978 regulations, consistent with 40 CFR 1506.13 (2020) and the preamble at 85 FR 43340.

3. Fixing America's Surface Transportation Act (FAST Act);

4. Department of Transportation Act of 1966, Section 4(f);

5. Land and Water Conservation Fund (LWCF) Act of 1965, Section 6(f);

6. Clean Air Act Amendments of 1990;

7. Clean Water Act of 1977 and 1987;

8. Endangered Species Act of 1973;

9. Migratory Bird Treaty Act;

10. National Historic Preservation Act of 1966, as amended;

11. Executive Order 11990, Protection of Wetlands;

12. Executive Order 11988, Floodplain Management;

13. Executive Order 12898, Federal Actions to Address Environmental Justice in Minority Populations and Low-Income Populations;

14. Executive Order 13112, Invasive Species.

Issued in Washington, DC.
Jamie P. Rennert,
Director, Office of Infrastructure Investment.

[FR Doc. 2022-13277 Filed 6-21-22; 8:45 am]

BILLING CODE 4910-06-P